DEPARTMENT OF COMMERCE

National Oceanic and Atmospheric Administration

RIN 0648-XF374

Mid-Atlantic Fishery Management Council (MAFMC); Public Meeting

AGENCY: National Marine Fisheries Service (NMFS), National Oceanic and Atmospheric Administration (NOAA), Commerce.

ACTION: Notice; public meeting.

SUMMARY: The Science and Statistical Committee (SSC) of the Mid-Atlantic Fishery Management Council's (Council) will hold a meeting.

DATES: The meeting will be held on Wednesday and Thursday, May 17-18, 2017, beginning at 9 a.m. on May 17 and concluding by 4:30 p.m. on May 18. See SUPPLEMENTARY INFORMATION for agenda details.

ADDRESSES: The meeting will take place at the Lord Baltimore Hotel, 20 West Baltimore Street, Baltimore, MD 21201; telephone: (410) 539-8400.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council, telephone: (302) 526-5255.

SUPPLEMENTARY INFORMATION: The purpose of this meeting is to make multi-year ABC recommendations for Atlantic surfclam and ocean quahog based upon recently completed benchmark stock assessments for both species. The SSC will also make multiyear ABC specifications for butterfish, Illex and longfin squid based on updated stock assessment information or updated landings and survey information. A review of the most recent data and the 2018 Atlantic mackerel ABC will also be conducted. In addition, topics to be discussed include the NEFSC clam dredge survey design, SSC OFL progress report, an update on the 2018 National SSC meeting and the NRCC assessment working group.

A detailed agenda and background documents will be made available on the Council's Web site (www.mafmc.org) prior to the meeting.

Special Accommodations

These meetings are physically accessible to people with disabilities. Requests for sign language interpretation or other auxiliary aid should be directed to M. Jan Saunders, (302) 526-5251, at least 5 days prior to the meeting date.

Dated: May 3, 2017.
Tracey L. Thompson,
Acting Deputy Director, Office of Sustainable Fisheries, National Marine Fisheries Service.

[FR Doc. 2017-09216 Filed 5-5-17; 8:45 am]

BILLING CODE 3510-22-P